DEPARTMENT OF THE INTERIOR

National Park Service

[N6780; NPS-WASO-NAGPRA-NPS0041531; PPWOCRADN0-PCU00RP14.R50000]

Notice of Inventory Completion: University of Oregon Museum of Natural and Cultural History, Eugene, OR

AGENCY: National Park Service, Interior.

ACTION: Notice.

SUMMARY: In accordance with the Native American Graves Protection and Repatriation Act (NAGPRA), the University of Oregon Museum of Natural and Cultural History has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Pamela Endzweig, University of Oregon Museum of Natural and Cultural History, 1224 University of Oregon, Eugene, OR 97403-1224, email endzweig@uoregon.edu.

SUPPLEMENTARY INFORMATION: This notice is published as part of the National Park Service's administrative responsibilities under NAGPRA. The determinations in this notice are the sole responsibility of the University of Oregon Museum of Natural and Cultural History, and additional information on the determinations in this notice, including the results of consultation, can be found in its inventory or related records. The National Park Service is not responsible for the determinations in this notice.

Abstract of Information Available

Human remains representing, at least, one individual have been identified. The 12 associated funerary objects include eight items of worked bone, one non-human tooth, a pestle fragment, and a small string of glass beads, and an undientifiable stone object. The fragmentary human remains (catalogued as 11-541 and also 1-12172) are from an adult of indeterminate age and sex. The human remains and funerary objects were collected by a private individual in 1933 and donated to the Museum in 1946. They are attributed to Port Orchard. While primary accessions records attribute them to Oregon, the present town of Port Orchard lies to the north in the state of Washington. It is alternatively possible that the collection is from Port Orford, Oregon. Records state that “data were given from memory—no written records.” While the exact nature of the burial association is unknown, the artifacts originated at the same location and they are not inconsistent with funerary objects. Based on these, the burial would date to proto-historic or post Euroamerican contact times. Port Orchard, Washington is the historic territory of Coast Salish peoples. Port Orford is the historic territory of Kwatami peoples.

Cultural Affiliation

Based on the information available and the results of consultation, cultural affiliation is reasonably identified by the geographical location or acquisition history of the human remains and associated funerary objects described in this notice.

Determinations

The University of Oregon Museum of Natural and Cultural History has determined that:

• The human remains described in this notice represent the physical remains of one individual of Native American ancestry

• The 12 objects described in this notice are reasonably believed to have been placed with or near individual human remains at the time of death or later as part of the death rite or ceremony.

• There is a connection between the human remains and associated funerary objects described in this notice and the Confederated Tribes of Siletz Indians of Oregon; Coquille Indian Tribe; Muckleshoot Indian Tribe; Port Gamble S'Klallam Tribe; Puyallup Tribe of the Puyallup Reservation; Skokomish Indian Tribe; Squaxin Island Tribe of the Squaxin Island Reservation; and the Suquamish Indian Tribe of the Port Madison Reservation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, the University of Oregon Museum of Natural and Cultural History must determine the most appropriate requestor prior to repatriation. Requests for joint repatriation of the human remains and associated funerary objects are considered a single request and not competing requests. The University of Oregon Museum of Natural and Cultural History is responsible for sending a copy of this notice to the Indian Tribes and Native Hawaiian organizations identified in this notice and any other consulting parties.

Authority: Native American Graves Protection and Repatriation Act, 25 U.S.C. 3003, and the implementing regulations, 43 CFR 10.10.

Dated: December 3, 2025.
Melanie O'Brien,
Manager, National NAGPRA Program.

[FR Doc. 2025-23338 Filed 12-18-25; 8:45 am]

BILLING CODE 4312-52-P